DEPARTMENT OF ENERGY

Federal Energy Regulatory Commission

[Docket No. PF06-023]

Gulf South Pipeline Company, LP; Notice of Intent To Prepare an Environmental Impact Statement for the Proposed Mississippi Expansion Project, Request for Comments on Environmental Issues, and Notice of Public Scoping Meetings

May 23, 2006.

The staff of the Federal Energy Regulatory Commission (FERC or Commission) will prepare an environmental impact statement (EIS) that will address the environmental impacts of the Mississippi Expansion Project proposed by Gulf South Pipeline Company, LP (Gulf South). The Commission will use the EIS in its decision-making process to determine whether or not to authorize the project. This notice explains the scoping process we ¹ will use to gather input from the public and interested agencies on the project. Your input will help us determine the issues that need to be evaluated in the EIS. Please note that the scoping period will close on June 23, 2006.

¹ “We,” “us,” and “our” refer to the environmental staff of the FERC's Office of Energy Projects.

Comments may be submitted in written form or verbally. Further details on how to submit written comments are provided in the Public Participation section of this notice. Public scoping meetings are designed to provide another opportunity to offer comments on the proposed project. In lieu of sending written comments, we invite you to attend the public scoping meetings we have scheduled as follows:

Date and time | Location
Monday June 12, 2006, 7 p.m. to 10 p.m. (CST) | Eagle Ridge Conference Center, 1500 Raymond Lake Road, Raymond, MS 39154. Phone: 601-857-7100.
Tuesday June 13, 2006, 7 p.m. to 10 p.m. (CST) | Vicksburg Convention Center & Auditorium, 1600 Mulberry Street, Vicksburg, MS 39180. Phone: 1-866-822-6338.

Interested groups and individuals are encouraged to attend these meetings and to present comments on the environmental issues they believe should be addressed in the EIS. A transcript of each meeting will be generated so that comments are accurately recorded.

This notice is being sent to affected landowners; Federal, state, and local government agencies; elected officials; environmental and public interest groups; Native American tribes; other interested parties; and local libraries and newspapers. We encourage government representatives to notify their constituents of this planned project and encourage them to comment on their areas of concern.

If you are a landowner receiving this notice, you may be contacted by a Gulf South representative about the acquisition of an easement to construct, operate, and maintain the proposed project facilities. The pipeline company would seek to negotiate a mutually acceptable agreement. However, if the project is approved by the FERC, that approval conveys with it the right of eminent domain. Therefore, if easement negotiations fail to produce an agreement, the pipeline company could initiate condemnation proceedings in accordance with state law.

A fact sheet prepared by the FERC entitled “An Interstate Natural Gas Facility on My Land? What Do I Need To Know?” is available for viewing on the FERC Internet Web site (http://www.ferc.gov). This fact sheet addresses a number of typically asked questions, including the use of eminent domain and how to participate in the FERC's proceedings.

Summary of the Proposed Project

Gulf South proposes to construct, own, operate, and maintain a natural gas pipeline to provide new pipeline capacity to transport domestic onshore gas supplies to producers in eastern Texas and northern Louisiana with an outlet for a significant portion of their production from the Barnett Shale, Bossier Sand, and other fields. The Mississippi Expansion Project would also provide additional transportation option for natural gas delivered into the north central Louisiana area. The Mississippi Expansion Project facilities would be located in Richland and Madison Parishes, Louisiana, and in Warren, Hinds, Copiah, and Simpson Counties, Mississippi.² The general location of the proposed pipeline is shown in the figure included as Appendix 1.³

² FERC staff is currently reviewing another Gulf South project, the Texas East Expansion Project (under pre-filing Docket No. PF06-017-000), that would bring natural gas from Texas to the starting point of the Mississippi Expansion Project.

³ The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the Public Participation section of this mail notice. Copies of the appendices were sent to all those receiving this notice in the. Request for detailed maps of the proposed facilities should be made directly to Gulf South.

The Mississippi Expansion Project facilities under FERC jurisdiction would include:

• An approximately 88.7-mile-long, 42-inch-diameter natural gas pipeline from Gulf South's East Texas Expansion Facility near Delhi in Richland Parish, Louisiana, to an interconnection with Gulf South's existing Index 130 transportation pipeline in Simpson County, Mississippi.

• A new 40,311 horsepower (hp) Tallulah Compressor Station at approximate milepost (MP) 18.4 in Madison Parish, Louisiana.

• Two meter and regulator stations at receipt points with two intrastate pipelines, including:

—Texas Eastern M&R Station at MP 70.9 in Warren County, Mississippi.

—Gulf South M&R Station at the proposed pipeline's terminus with Gulf South's Index 130 Pipeline at MP 88.7 in Simpson County, Mississippi.

• Five mainline valves and two launcher/receiver sites.

The project would be designed and constructed to receive and transport about 1.5 billion cubic feet of natural gas per day. Gulf South proposes to have the project constructed and operational by September 2007.

Land Requirements for Construction

As proposed, the typical construction right-of-way for the project pipeline would be 100 feet wide. Following construction, Gulf South would retain a 60-foot-wide permanent right-of-way for operation of the project. Additional, temporary extra workspaces beyond the typical construction right-of-way limits would be required at certain feature crossings (e.g., roads, railroads, wetlands, or waterbodies), in areas with steep side slopes, or in association with special construction techniques.

Based on preliminary information, construction of the proposed project facilities would affect a total of about 1,228 acres of land. Following construction, about 645 acres would be maintained as permanent right-of-way, and about 12.3 acres of land would be maintained as new aboveground facility sites. The remaining 571 acres of temporary workspace (including all temporary construction rights-of-way, extra workspaces, and pipe storage and contractor yards) would be restored and allowed to revert to its former use.

The EIS Process

NEPA requires the Commission to take into account the environmental impacts that could result from an action when it considers whether or not an interstate natural gas pipeline should be approved. The FERC will use the EIS to consider the environmental impact that could result if the Gulf South project is authorized under section 7 of the Natural Gas Act. NEPA also requires us to discover and address concerns the public may have about proposals to be considered by the Commission. This process is referred to as “scoping.” The main goal of the scoping process is to focus the analysis in the EIS on the important environmental issues. With this Notice of Intent (NOI), the Commission staff is requesting public comments on the scope of the issues to be addressed in the EIS. All comments received will be considered during preparation of the EIS.

In the EIS we will discuss impacts that could occur as a result of the construction and operation of the proposed project under these general headings:

• Geology and soils;

• Water resources;

• Wetlands and vegetation;

• Fish and wildlife;

• Threatened and endangered species;

• Cultural resources;

• Land use, recreation, and visual resources;

• Socioeconomics;

• Air quality and noise;

• Reliability and safety;

• Alternatives; and

• Cumulative impacts.

In the EIS, we will also evaluate possible alternatives to the proposed project or portions of the project, and make recommendations on how to lessen or avoid impacts on affected resources.

Our independent analysis of the issues will be included in a draft EIS. The draft EIS will be mailed to Federal, state, and local government agencies; elected officials; environmental and public interest groups; Native American tribes; affected landowners; commentors; other interested parties; local libraries and newspapers; and the FERC's official service list for this proceeding. A 45-day comment period will be allotted for review of the draft EIS. We will consider all comments on the draft EIS and revise the document, as necessary, before issuing a final EIS. We will consider all comments on the final EIS before we make our recommendations to the Commission. To ensure that your comments are considered, please follow the instructions in the Public Participation section of this notice.

Although no formal application has been filed, the FERC staff has already initiated its NEPA review under its NEPA Pre-filing Process. The purpose of the Pre-filing Process is to encourage the early involvement of interested stakeholders and to identify and resolve issues before an application is filed with the FERC.

With this notice, we are asking federal, state, and local governmental agencies with jurisdiction and/or special expertise with respect to environmental issues to express their interest in becoming cooperating agencies for the preparation of the EIS. These agencies may choose to participate once they have evaluated the proposal relative to their responsibilities. Agencies that would like to request cooperating status should send a letter expressing that interest and expected level of involvement to the Secretary of the Commission at the address provided in the public participation section of this notice.

Currently Identified Environmental Issues

We have already identified several issues that we think deserve attention based on a preliminary review of the proposed facilities, the environmental information provided by Gulf South, and early input from intervenors. This preliminary list of issues may be changed based on your comments and our analysis.

Geology and Soils:

Potential impacts to fossil fuel and non-fossil fuel mineral resources.

—Impacts on agricultural, prime farmland, and pastureland soils.

—Impacts on Conservation Reserve Program and Wetland Reserve Program soils.

—Impacts on unconsolidated soils with severe erosion potential.

Water Resources and Wetlands:

—Potential effects on groundwater resources.

—Impacts on ephemeral, intermittent and perennial streams, including the Bayou Macon, Joes Bayou, Tensas River, Bayou Despair, Mothiglam Bayou, Brushy Bayou, Walnut Bayou, Big Black River, and Pearl River. Potential impacts on waterbodies greater than 100 feet in width including the Mississippi River.

—Impacts on wetlands.

Vegetation and Wildlife:

—Impacts on vegetation.

—Impacts on wildlife, wildlife habitat, and fisheries.

—Potential impacts on federally and state-listed threatened and endangered species.

—Potential impacts to the Tensas National Wildlife Refuge.

Cultural Resources:

—Impacts on archaeological sites and other historic properties.

Land Use, Recreation, and Visual Resources:

—Potential impacts to existing land uses, including residences, suburban housing developments, cemeteries, agricultural lands, orchards, and managed forested lands.

—Visual effects of the proposed Tallulah Compressor Station and M&R Stations on surrounding areas.

—Potential impacts on the Natchez Trace Parkway.

Socioeconomics:

—Potential impacts and benefits of construction workforce on local housing, infrastructure, public services and economy.

Air and Noise Quality:

—Effects on air and noise quality from construction and operation of the Tallulah Compressor Station.

Reliability and Safety:

—Public safety and potential hazards associated with the transport of natural gas.

Alternatives:

—Assessment of route variations and route alignments to reduce or avoid environmental impacts.

Cumulative Impacts:

—Assessment of the effect of the proposed project when combined with other past, present, or reasonably foreseeable future actions in the project area

Public Participation

You can make a difference by providing us with your specific comments or concerns about the proposed project. By becoming a commentor, your concerns will be addressed in the EIS and considered by the Commission. Your comments should focus on the potential environmental effects, reasonable alternatives (including alternative facility sites and pipeline routes), and measures to avoid or lessen environmental impact. The more specific your comments, the more useful they will be. To ensure that your comments are timely and properly recorded, please carefully follow these instructions:

• Send an original and two copies of your letter to: Magalie R. Salas, Secretary, Federal Energy Regulatory Commission, 888 First St., NE., Room 1A, Washington, DC 20426.

• Label one copy of your comments for the attention of Gas Branch 2, DG2E.

• Reference Docket No. PF06-023 on the original and both copies.

• Mail your comments so that they will be received in Washington, DC on or before June 23, 2006.

The Commission strongly encourages electronic filing of any comments in response to this Notice of Intent. For information on electronically filing comments, please see the instructions on the Commission's Web site at http://www.ferc.gov under the “e-Filing” link and the link to the User's Guide, as well as information in 18 CFR 385.2001(a)(1)(iii). Before you can submit comments you will need to create a free account, which can be created on-line.

Once Gulf South formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities.

If you received this notice, you are on the environmental mailing list for this project. If you do not want to send comments at this time, but still want to remain on our mailing list, please return the Information Request (Appendix 2). If you do not return the Information Request, you will be removed from the Commission's environmental mailing list.

Availability of Additional Information

Additional information about the project is available from the Commission's Office of External Affairs, at 1-866-208-FERC (3372) or on the FERC Internet Web site (http://www.ferc.gov) using the “eLibrary link.” Click on the eLibrary link, select “General Search” and enter the project docket number excluding the last three digits (i.e., PF06-23) in the “Docket Number” field. Be sure you have selected an appropriate date range. For assistance, please contact FERC Online Support at FERCOnlineSupport@ferc.gov or toll free at 1-866-208-3676, or TTY, contact (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

Finally, Gulf South has established an Internet Web site for this project: http://www.gulfsouthpl.com/. You can also request additional information or provide comments directly to Gulf South at 1-877/972-8533 or Stephens, Kyle (Gulf South) kyle.stephens@gulfsouthpl.com.

Magalie R. Salas,
Secretary.

[FR Doc. E6-8330 Filed 5-30-06; 8:45 am]

BILLING CODE 6717-01-P